DEPARTMENT OF HOUSING AND URBAN DEVELOPMENT

[Docket No. FR-5415-C-22A]

Notice of Availability: Notice of Technical Correction to the Notice of Funding Availability for Fiscal Year 2010 Transformation Initiative: Natural Experiments Program

AGENCY: Office of the Chief of the Human Capital Officer, HUD.

ACTION: Notice.

SUMMARY: On January 20, 2011, HUD posted on http://www.Grants.gov, a Notice of Funding Availability (NOFA) for Fiscal Year 2010 Transformation Initiative: Natural Experiments Grant Program. This Correction clarifies the rating Factors for Award to be used in determining selected applicants and extends the deadline date.

Funding for this effort is made available by the Department of Housing and Urban Development Appropriations Act, 2010 (Pub. L. 111-117 approved December 16, 2009). This program is undertaken by HUD's research authority under the Transformation Initiative Fund.

This Technical Correction also extends the application deadline date from Monday, February 21, 2011 to a new application deadline date of Wednesday, February 23, 2011. Applicants do not need to download a new application or resubmit their applications as a result of this notice.

The technical correction notice can be found using the Department of Housing and Urban Development agency link on the Grants.gov/Find Web site at http://www.grants.gov/search/agency.do. A link to Grants.gov is also available on the HUD Web site at http://www.hud.gov/offices/adm/grants/fundsavail.cfm. The Catalogue of Federal Domestic Assistance (CFDA) number for this program is 14.524. Applications must be submitted electronically through Grants.gov.

FOR FURTHER INFORMATION CONTACT: Questions regarding specific program requirements should be directed to the agency contact identified in the program NOFA. Program staff will not be available to provide guidance on how to prepare the application. Questions regarding the 2010 General Section should be directed to the Office of Grants Management and Oversight at (202) 708-0667 or the NOFA Information Center at 800-HUD-8929 (toll free). Persons with hearing or speech impairments may access these numbers via TTY by calling the Federal Information Relay Service at 800-877-8339.

Dated: February 17, 2011.
Barbara S. Dorf,
Director, Office of Departmental Grants, Management and Oversight, Office of the Chief Human Capital Officer.

[FR Doc. 2011-4031 Filed 2-22-11; 8:45 am]

BILLING CODE 4210-67-P